ENVIRONMENTAL PROTECTION AGENCY

[OPP-50869; FRL-6592-5]

Issuance of an Experimental Use Permit

AGENCY: Environmental Protection Agency (EPA).

ACTION: Notice.

SUMMARY: EPA has granted an experimental use permit (EUP) to the following pesticide applicant. An EUP permits use of a pesticide for experimental or research purposes only in accordance with the limitations in the permit.

FOR FURTHER INFORMATION CONTACT: By mail: Alan Reynolds, Biopesticides and Pollution Prevention Division (7511C), Office of Pesticide Programs, Environmental Protection Agency, 1200 Pennsylvania Ave., NW., Washington, DC 20460. Office location, telephone number, and e-mail address: 1921 Jefferson Davis Highway, Rm. 910W46, CM #2, Arlington, VA, (703) 605-0515, e-mail: reynolds.alan@epa.gov.

SUPPLEMENTARY INFORMATION:

I. General Information

A. Does this Action Apply to Me?

This action is directed to the public in general. Although this action may be of particular interest to those persons who conduct or sponsor research on pesticides, the Agency has not attempted to describe all the specific entities that may be affected by this action. If you have any questions regarding the information in this action, consult the designated contact person listed for the individual EUP.

B. How Can I Get Additional Information, Including Copies of this Document and Other Related Documents?

You may obtain electronic copies of this document from the EPA Internet Home Page at http://www.epa.gov/. On the Home Page select “Laws and Regulations” and then look up the entry for this document under the “Federal Register—Environmental Documents.” You can also go directly to the Federal Register listings at http://www.epa.gov/fedrgstr/.

II. EUP

EPA has issued the following EUP:

524-EUP-91. Issuance. Monsanto Company, 700 Chesterfield Parkway North, St. Louis, MO 63198. This experimental use permit allows the use of 60.7 grams of the insecticidal Bacillus thuringiensis Cry1Ac protein in seeds shipped containing the plant-pesticide (Bacillus thuringiensis Cry1Ac protein and the genetic material for its production (Vector PV-GMBT01 and Vector PV-GMBT02) in soybean) on 61.3 acres of soybean to evaluate the control of soybean looper, stem borer, and velvetbean caterpillar. The program is authorized only in the States of Alabama, Arkansas, Georgia, Illinois, Indiana, Iowa, Kansas, Louisiana, Maryland, Mississippi, Missouri, North Carolina, and Tennessee. The experimental use permit is effective from May 25, 2000 to May 31, 2001. This permit is issued with the limitation that all treated crops will be destroyed or used for research purposes only.

Persons wishing to review this EUP are referred to the designated contact person. Inquiries concerning this permit should be directed to the person cited above. It is suggested that interested persons call before visiting the EPA office, so that the appropriate file may be made available for inspection purposes from 8 a.m. to 4 p.m., Monday through Friday, excluding legal holidays.

Authority: 7 U.S.C. 136.

List of Subjects

Environmental protection, Experimental use permits.

Dated: June 12, 2000.
Janet L. Andersen,
Director, Biopesticides and Pollution Prevention Division, Office of Pesticide Programs.

[FR Doc. 00-15721 Filed 6-21-00; 8:45 am]

BILLING CODE 6560-50-F